DEPARTMENT OF THE TREASURY

Submission for OMB Review; Comment Request

May 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before June 29, 2009, to be assured of consideration.

Internal Revenue Service (IRS)

OMB Number: 1545-2127.

Type of Review: Extension.

Form: 8926.

Title: Disqualified Corporate Interest Expense Disallowed Under Section 163(j) and Related Information.

Description: Pursuant to Congressional direction to determine whether the earnings stripping limitation rule of Code Section 163(j) was effective in curbing the erosion of the U.S. tax base, CC:INTL, LMSB, and the Treasury sought to create new Form 8926, Disqualified Corporate Interest Expense Disallowed Under Section 163(j) and Related Information. The new form is based on Code section 163(j) and the related proposed regulations.

Respondents: Businesses or other for-profits.

Estimated Total Burden Hours: 7,560,000 hours.

OMB Number: 1545-2126.

Type of Review: Extension.

Form: 8932.

Title: Form 8932—Credit for Employer Differential Wage Payments.

Description: Qualified employers will file Form 8932 to claim the credit for qualified differential wage payments paid to qualified employees after June 17, 2008, and before January 1, 2010. Authorized under I.R.C. section 45P.

Respondents: Businesses or other for-profits.

Estimated Total Burden Hours: 62,456 hours.

Clearance Officer: R. Joseph Durbala (202) 622-3634, Internal Revenue Service, Room 6516, 1111 Constitution Avenue, NW., Washington, DC 20224.

OMB Reviewer: Shagufta Ahmed (202) 395-7873, Office of Management and Budget, Room 10235, New Executive Office Building, Washington, DC 20503.

Celina Elphage,
Treasury PRA Clearance Officer.

[FR Doc. E9-12536 Filed 5-28-09; 8:45 am]

BILLING CODE 4830-01-P